ENVIRONMENTAL PROTECTION AGENCY

40 CFR Part 52

[SIP NO. UT-001-0037a; FRL-7142-9]

Approval and Promulgation of Air Quality Implementation Plans; State of Utah; Revision of Definitions

AGENCY: Environmental Protection Agency (EPA).

ACTION: Direct final rule.

SUMMARY: EPA is taking direct final action approving State Implementation Plan (SIP) revisions submitted by the Governor of Utah on April 19, 2000. The April 19, 2000 submittal revises Utah's Air Conservation Regulations by updating the definitions for “significant” and “volatile organic compound” to be in agreement with the federal definitions. The intended effect of this action is to make the definitions federally enforceable. This action is being taken under section 110 of the Clean Air Act.

DATES: This rule is effective on April 22, 2002 without further notice, unless EPA receives adverse comment by March 25, 2002. If adverse comment is received, EPA will publish a timely withdrawal of the direct final rule in the Federal Register informing the public that the rule will not take effect.

ADDRESSES: Written comments may be mailed to Richard R. Long, Director, Air and Radiation Program, Mailcode 8P-AR, Environmental Protection Agency (EPA), Region 8, 999 18th Street, Suite 300, Denver, Colorado, 80202. Copies of the documents relevant to this action are available for public inspection during normal business hours at the Air and Radiation Program, Environmental Protection Agency, Region 8, 999 18th Street, Suite 300, Denver, Colorado, 80202 and copies of the Incorporation by Reference material are available at the Air and Radiation Docket and Information Center, Environmental Protection Agency, 401 M Street, SW, Washington, DC 20460. Copies of the State documents relevant to this action are available for public inspection at the Utah Department of Environmental Quality, Division of Air Quality, 150 North 1950 West, Salt Lake City, Utah 84114.

FOR FURTHER INFORMATION CONTACT: Laurel Dygowski, EPA, Region 8, (303) 312-6144.

SUPPLEMENTARY INFORMATION: Throughout this document wherever “we” or “our” is used means EPA.

I. Analysis of the State Submittal

A. Procedural Background

The Act requires States to observe certain procedural requirements in developing implementation plans and plan revisions for submission to EPA. Section 110(a)(2) of the Act provides that each implementation plan admitted by a State must be adopted after reasonable notice and public hearing. Section 110(1) of the Act similarly provides that each revision to an implementation plan submitted by a State under the Act must be adopted by such State after reasonable notice and public hearing.

EPA also must determine whether a submittal is complete and therefore warrants further EPA review and action (see section 110(k)(1) and 57 FR 13565). EPA's completeness criteria are set out at 40 CFR part 51, appendix V. EPA attempts to make completeness determinations within 60 days of receiving a submission. However, a submittal is deemed complete by operation of law if a completeness determination is not made by EPA six months after receipt of submission.

To entertain public comment, the State of Utah, after providing adequate public notice, held a public hearing on March 1, 1999 to address revisions to the SIP. Following the public hearings and public comment period, the Utah Air Quality Board adopted the revisions. Revisions to R307-101-2 (previously codified as R307-101-1) were adopted on April 1, 1999.

The Governor of Utah submitted the revisions to the SIP in a letter dated April 19, 2000. The SIP revisions were deemed complete by operation of law.

B. April 19, 2000 Revisions—R307-101-2

The revisions the State of Utah's SIP were made to reflect the current federal definitions of “significant” and “volatile organic compounds”. The first revision to the SIP incorporates changes to 40 CFR 51.166(23)(i), which was amended to establish significance levels for four pollutants emitted from municipal waste combustors and solid waste landfills, thus changing the definition for “significant”. The significance level is used to determine the scope of review needed for an application to increase emissions for sources which are covered by the Prevention of Significant Deterioration (PSD) requirements. The second SIP revision incorporates by reference EPA's definition of “volatile organic compound” (VOC) found in 40 CFR 51.100(s)(1), July 1, 1998. The definition of VOC was amended to delete methyl acetate from the list of volatile organic compounds that contribute to the formation of ground level ozone, thus changing the definition of “volatile organic compound”. EPA believes these revisions are acceptable and is approving them into the SIP.

The April 19, 2000 submittal also contained revisions to definitions in Utah's Air Conservation Regulations section R307-410-4. The Governor of Utah withdrew these revisions on October 16, 2000.

II. Final Action

EPA is approving the revisions to the Utah SIP submitted on April 19, 2000. The revisions incorporate the latest federal definitions for “significant” and “volatile organic compound” and amend the State's Air Conservation Regulations section R307-101-2. EPA believes these revisions to the SIP are consistent with the Clean Air Act and EPA policy.

EPA is publishing this rule without prior proposal because the Agency views this as a noncontroversial amendment and anticipates no adverse comments However, in the “Proposed Rules” section of today's Federal Register publication, EPA is publishing a separate document that will serve as the proposal to approve the SIP revision if adverse comments be filed. This rule will be effective April 22, 2002 without further notice unless the Agency receives adverse comments by March 25, 2002. If the EPA receives adverse comments, EPA will publish a timely withdrawal in the Federal Register informing the public that the rule will not take effect. EPA will address all public comments in a subsequent final rule based on the proposed rule. The EPA will not institute a second comment period on this action. Any parties interested in commenting must do so at this time. Please note that if EPA receives adverse comment on an amendment, paragraph, or section of this rule and if that provision may be severed from the remainder of the rule, EPA may adopt as final those provisions of the rule that are not the subject of an adverse comment.

III. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by April 22, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Incorporation by reference, Intergovernmental relations, Nitrogen dioxide, Ozone, Particulate matter, Reporting and recordkeeping requirements, Sulfur oxides.

Dated: January 29, 2002.
Jack W. McGraw,
Acting Regional Administrator, Region 8.

40 CFR part 52 is amended as follows:

PART 52—[AMENDED]

1. The authority citation for Part 52 continues to read as follows:

Authority: 42 U.S.C. 7401 et seq.

Subpart TT-Utah

2. Section 52.2320 is amended by adding paragraph (c)(46 ) to read as follows:

§ 52.2320 Identification of plan.

* * * * *

(c) * * *

(46) On April 19, 2000, the Governor of Utah submitted revisions to the State's Air Conservation Regulations to update the definitions for “significant” and “volatile organic compound” to be in agreement with the federal definitions found at 40 CFR 51.166(23)(i) and 40 CFR 51.100(s)(1), July 1, 1998, respectively.

(i) Incorporation by reference.

(A) Utah Air Conservation Regulations section R307-101-2, definitions of “significant” and “volatile organic compound” (VOC), effective April 8, 1999.

[FR Doc. 02-4066 Filed 2-20-02; 8:45 am]

BILLING CODE 6560-50-P